FEDERAL TRADE COMMISSION

Granting of Request for Early Termination of the Waiting Period Under the Premerger Notification Rules

Section 7A of the Clayton Act, 15 U.S.C. 18a, as added by Title II of the Hart-Scott-Rodin Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The grants were made by the Federal Trade Commission and the Assistant Attorney General for the Antitrust Division of the Department of Justice. Neither agency intends to take any action with respect to these proposed acquisitions during the applicable waiting period.

Early Terminations Granted
July 1, 2012 Through July 31, 2012
07/02/2012
20121012 | G | Pinnacle West Capital Corporation; Edison International; Pinnacle West Capital Corporation.
20121022 | G | Vector Capital IV International. L.P.; Technicolor S.A.; Vector Capital IV International, L.P.
07/03/2012
20120953 | G | Forest Laboratories, Inc.; Nabriva Therapeutics AG; Forest Laboratories, Inc.
20120990 | G | DaVita Inc.; HealthCare Partners Medical Group; DaVita Inc.
20120992 | G | IHS Inc.; Warburg Pincus Equity Partners Liquidating Trust; IHS Inc.
20121016 | G | Microsoft Corporation; Yammer, Inc.; Microsoft Corporation.
07/05/2012
20120846 | G | Outokumpu Oyj; ThyssenKrupp AG; Outokumpu Oyj.
07/06/2012
20120952 | G | TR.R. Donnelley & Sons Company; EDGAR Online, Inc.; R.R. Donnelley & Sons Company.
20121029 | G | Time Warner Inc.; Alloy Media Co-Investors, L.L.C.; Time Warner Inc.
07/09/2012
20120947 | G | BDCM Opportunity Fund II, L.P.; Onex Partners LP; BDCM Opportunity Fund II, L.P.
20121017 | G | Apax Europe VII-B, L.P.; Fox Paine Capital Fund II International, L.P.; Apax Europe VII-B, L.P.
20121039 | G | MorningStar Partners, L.P.; ExxonMobil Corporation; MorningStar Partners, L.P.
20121041 | G | CenterPoint Energy, Inc.; Martin Midstream Partners L.P.; CenterPoint Energy, Inc.
20121042 | G | Stefano Pessina; Walgreen Co.; Stefano Pessina.
20121050 | G | Linn Energy, LLC; BP p.l.c.; Linn Energy, LLC.
20121052 | G | Fidelity National Financial, Inc.; J. Alexander's Corporation; Fidelity National Financial, Inc.
20121053 | G | Quad-C Partners VII, L.P.; Endeavour Capital Fund IV, LP; Quad-C Partners VII, L.P.
20121056 | G | Lightyear Fund III, L.P.; Fidelity National Information Services, Inc.; Lightyear Fund III, L.P.
20121062 | G | Melrose PLC; Rembrandt Holdings S.A.; Melrose PLC.
07/10/2012
20121058 | G | Odyssey Investment Partners Fund IV, L.P.; 2003 Riverside Capital Appreciation Fund L.P.; Odyssey Investment Partners Fund IV, L.P.
20121065 | G | The Corporate Executive Board Company; Hg Capital 5, L.P.; The Corporate Executive Board Company.
07/11/2012
20121007 | G | Communications Infrastructure Investments, LLC; Fibergate Holdings, Inc.; Communications Infrastructure Investments, LLC.
20121024 | G | Aurora Equity Partners IV L.P.; Monitor Clipper Equity Partners III, L.P.; Aurora Equity Partners IV L.P.
20121026 | G | Pershing Square International, Ltd.; The Procter & Gamble Company; Pershing Square International, Ltd.
20121027 | G | Pershing Square, L.P.; The Procter & Gamble Company; Pershing Square, L.P.
20121055 | G | EMC Corporation; Credit Suisse Group AG; EMC Corporation.
20121059 | G | Odyssey Investment Partners Fund IV, L.P.; 2003 Riverside Capital Appreciation Fund, L.P.; Odyssey Investment Partners Fund IV, L.P.
07/12/2012
20120989 | G | Laboratory Corporation of America Holdings; MEDTOX Scientific, Inc.; Laboratory Corporation of America Holdings.
07/13/2012
20120837 | G | Novartis AG; Fougera S.C.A. SICAR; Novartis AG.
20121057 | G | Lincolnshire Equity Fund IV-A, L.P.; New True Temper Holdings Corporation, Inc.; Lincolnshire Equity Fund IV-A, L.P.
20121070 | G | Land O' Lakes, Inc.; Estate of Vincent Gruppuso; Land O' Lakes, Inc.
07/16/2012
20121032 | G | Third Point Reinsurance Ltd.; Yahoo! Inc.; Third Point Reinsurance Ltd.
07/17/2012
20121040 | G | Industrial Growth Partners III, L.P.; Blue Point Capital Partners II L.P.; Industrial Growth Partners III, L.P.
07/18/2012
20121004 | G | Cisco Systems, Inc.; News Corporation; Cisco Systems, Inc.
20121071 | G | Silver Lake Sumeru Fund, LP; Velocity Technology Enterprises, Inc.; Silver Lake Sumeru Fund, LP.
20121073 | G | Bilfinger Berger SE; Westcon Holdings, Inc.; Bilfinger Berger SE.
20121084 | G | Sony Corporation; GaiKai Inc.; Sony Corporation.
07/20/2012
20121079 | G | Xerox Corporation; Geoffrey and Pauline Roper; Xerox Corporation.
20121080 | G | Dell Inc.; Quest Software, Inc.; Dell Inc.
20121093 | G | Linde AG; Lincare Holdings, Inc.; Linde AG.
20121096 | G | Appointive Distributing Trust A c/u SC Johnson '88 Trust # I; Illinois Tool Works Inc.; Appointive Distributing Trust A c/u SC Johnson '88 Trust # I.
20121103 | G | BRE/Everbright M6 LLC; Accor, S.A.; BRE/Everbright M6 LLC.
20121112 | G | FIF HE Holdings LLC; Residential Capital, LLC; FIF HE Holdings LLC.
20121113 | G | JPMorgan Chase & Co.; MModal, Inc.; JPMorgan Chase & Co.
07/23/2012
20121094 | G | DPC Holdings, LLC; Roark Capital Partners. LP; DPC Holdings, LLC.
20121117 | G | Mondi plc; OCM Luxembourg Nordenia POF S.a.r.l.; Mondi plc.
07/25/2012
20121048 | G | Galaxy CF UST Investment Holdings LLC; Walker & Dunlop, Inc.; Galaxy CF UST Investment Holdings LLC.
20121049 | G | Galaxy PEF Holdings LLC; Walker & Dunlop, Inc.; Galaxy PEF Holdings LLC.
20121091 | G | Cabot Corporation; Doughty Hanson & Co V LP No. 2; Cabot Corporation.
20121095 | G | Mr. Masahiro Miki; LaCrosse Footwear, Inc.; Mr. Masahiro Miki.
20121097 | G | Wells Fargo & Company; Linsalata Capital Partners Fund V, L.P,; Wells Fargo & Company.
20121121 | Y | CSP III AIV, L.P.; Edward L. Lennox; CSP III MV, L.P.
07/27/2012
20121085 | G | The Walt Disney Company; A&E Television Networks, LLC; The Walt Disney Company.
20121086 | G | The Hearst Family Trust; A&E Television Networks, LLC; The Hearst Family Trust.
20121092 | G | LifePoint Hospitals, Inc.; Marquette General Hospital, Inc.; LifePoint Hospitals, Inc.
20121099 | G | Sprint Co-Invest, L.P.; Walgreen Co.; Sprint Co-Invest, L.P.
20121109 | G | Cielo S.A.; Merchant e-Solutions, Inc.; Cielo S.A.
20121114 | G | Brentwood Associates Private Equity IV, L.P.; Thomas K. Wilcher; Brentwood Associates Private Equity IV, L.P.
20121119 | G | Paulson Credit Opportunities Ltd.; Domus Holdings Corp.; Paulson Credit Opportunities Ltd.
20121124 | G | TAIF VI Euro Holdings, L.P.; Domus Holdings Corp.; AIF VI Euro Holdings, L.P.
20121127 | G | Lincolnshire Equity Fund IV-A, L.P.; Seidler Equity Partners III, L.P.; Lincolnshire Equity Fund IV-A, L.P.
20121136 | G | Darden Restaurants, Inc.; TSG5 L.P.; Darden Restaurants, Inc.
07/30/2012
20120935 | G | Berkshire Hathaway Inc.; Philippe Delouvrier; Berkshire Hathaway Inc.
20121077 | G | KKR 2006 Fund (Overseas), Limited Partnership; Walgreen Co.; KKR 2006 Fund (Overseas), Limited Partnership.
20121078 | G | USF Holding Corp.; Jeff A. Braverman; USF Holding Corp.
20121120 | G | Atlantic Equity Partners IV, L.P.; Evercore Capital Partners II L.P.; Atlantic Equity Partners IV, L.P.
20121125 | G | Corinthian Equity Fund, L.P.; U.S. Natural Resources, Inc.; Corinthian Equity Fund, L.P.
20121129 | G | Centrica plc; Iberdrola, S.A.; Centrica plc.
20121133 | G | Kinder Morgan Energy Partners, L.P.; Kinder Morgan, Inc.; Kinder Morgan Energy Partners, L.P.
20121138 | G | Emi Stefani; Patrice and Veronique Minguez; Emi Stefani.
20121139 | G | SAIC, Inc.; RLH Investors II, L.P.; SAIC, Inc.
20121140 | G | Campbell Soup Company; Madison Dearborn Capital Partners IV, L.P.; Campbell Soup Company.
20121151 | G | Baptist Healthcare System, Inc.; The Troyer Clinic Foundation, Incorporated; Baptist Healthcare System, Inc.
20121157 | G | Barnes Group Inc.; Littlejohn Associates III, LLC; Barnes Group Inc.
07/31/2012
20121076 | G | Liberty Global, Inc.; MCNA Cable Holding LLC; Liberty Global, Inc.

FOR FURTHER INFORMATION CONTACT:

Renee Chapman, Contact Representative,

or

Theresa Kingsberry, Legal Assistant,

Federal Trade Commission, Premerger Notification Office, Bureau of Competition, Room H-303, Washington, DC 20580, (202) 326-3100.

By Direction of the Commission.
Donald S. Clark,
Secretary.

[FR Doc. 2012-19686 Filed 8-13-12; 8:45 am]

BILLING CODE 6750-01-M